DEPARTMENT OF COMMERCE

International Trade Administration

[A-552-818]

Certain Steel Nails From the Socialist Republic of Vietnam: Rescission of Antidumping Duty Administrative Review; 2016/2017

AGENCY: Enforcement and Compliance, International Trade Administration, Department of Commerce.

SUMMARY: The Department of Commerce (Commerce) is rescinding the administrative review of the antidumping duty order on certain steel nails from the Socialist Republic of Vietnam, based on the timely withdrawal of all requests for review. The period of review (POR) is July 1, 2016, through June 30, 2017.

DATES: Applicable January 4, 2018.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On July 3, 2017, Commerce published in the Federal Register a notice of opportunity to request an administrative review of the antidumping duty order ¹ of certain steel nails from the Socialist Republic of Vietnam for the POR July 1, 2016, through June 30, 2017.² On July 31, 2017, in accordance with section 751(a) of the Tariff Act of 1930, as amended (the Act), and 19 CFR 351.213(b), Commerce received a timely request for administrative review from Mid Continent Steel & Wire, Inc., the petitioner in this proceeding, covering the following producers or exporters: (1) Apex Holding Group Limited, (2) B.A.T. Logistics, (3) BAC AU Logistics Service and Trading, (4) C.H. Robinson, (5) CS Song Thuy, (6) FGS Logistics Co. Ltd., (7) Hecny Shipping Ltd., (8) Honour Lane Shipping Ltd., (9) M&T Export Trading Production, (10) Master International Logistics, (11) Orient Express Container Co., Ltd., (12) Rich State Inc., (13) Sanco Freight, (14) Seahorse Shipping Corporation, (15) Thao Cuong Co., Ltd., (16) Toan Nhat Viet Trading and Service, (17) Transworld Transportation Co., Ltd., (18) Truong Vinh Ltd., and (19) United Nail Products Co. Ltd.³ No other parties requested an administrative review. Pursuant to Mid Continent Steel & Wire, Inc.'s review request and in accordance with 19 CFR 351.221(c)(1)(i), on September 13, 2017, Commerce published in the Federal Register a notice of initiation of an administrative review covering each of the nineteen producers or exporters named by Mid Continent Steel & Wire, Inc. in its July 31, 2017 review request.⁴ On September 28, 2017, Mid Continent Steel & Wire, Inc. timely withdrew its administrative review request for each of the nineteen companies specified in its July 31, 2017 request.⁵

¹ See Certain Steel Nails from the Republic of Korea, Malaysia, the Sultanate of Oman, Taiwan, and the Socialist Republic of Vietnam: Antidumping Duty Orders, 80 FR 39994 (July 13, 2015).

² See Antidumping or Countervailing Duty Order, Finding, or Suspended Investigation; Opportunity to Request Administrative Review, 82 FR 30833 (July 3, 2017).

³ See Mid Continent Steel & Wire, Inc. letter, “Certain Steel Nails from Vietnam: Request for Administrative Reviews,” dated July 31, 2017.

⁴ See Initiation of Antidumping and Countervailing Duty Administrative Reviews, 82 FR 42974 (September 13, 2017).

⁵ See Mid Continent Steel & Wire, Inc. letter, “Certain Steel Nails from Vietnam: Withdrawal of Request for Administrative Reviews” dated September 28, 2017.

Rescission of Review

Pursuant to 19 CFR 351.213(d)(1), Commerce will rescind an administrative review, in whole or in part, if the party, or parties, that requested a review withdraws the request/s within 90 days of the publication of the notice of initiation of the requested review. As noted above, Mid Continent Steel & Wire, Inc. withdrew its request for review by the 90-day deadline, and no other party requested an administrative review of this order. Therefore, in response to the timely withdrawal of the request for review, and in accordance with 19 CFR 351.213(d)(1), Commerce is rescinding this review.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this POR. Failure to comply with this requirement could result in the presumption that reimbursement of antidumping duties occurred and the subsequent assessment of double antidumping duties.

Notification Regarding Administrative Protective Order

This notice also serves as the only reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a sanctionable violation.

This notice is published in accordance with sections 751(a)(1) and 777(i)(1) of the Act, and 19 CFR 351.213(d)(4).

Dated: December 28, 2017.
Christian Marsh,
Deputy Assistant Secretary for Enforcement and Compliance.

[FR Doc. 2017-28479 Filed 1-3-18; 8:45 am]

BILLING CODE 3510-DS-P